DEPARTMENT OF DEFENSE

Department of the Army, Corps of Engineers

Intent To Prepare a Draft Environmental Impact Statement (DEIS) for a Proposed Hurricane and Storm Damage Reduction Project at the Village of Bayville, Nassau County, New York

AGENCY: U.S. Army Corps of Engineers, DoD.

ACTION: Notice of intent.

SUMMARY: The U.S. Army Corps of Engineers (USACE), New York District, announces its intent to prepare a DEIS pursuant to the National Environment Policy Act (NEPA), in accordance with the Council on Environmental Quality (CEO) Regulations for Implementing the Procedural Provisions of NEPA and the Department of the Army, USACE Procedures for Implementing NEPA, to assess the environmental impacts of a proposed hurricane and storm damage reduction project for the north shore of Long Island in the Village of Bayville, NY. In accordance with USACE policies, the USACE will conduct a feasibility study to evaluate a range of structural and non-structural project alternatives. The following improvement measures would be considered: beach fill only, beach fill in combination with structures such as floodwalls, buried rubble-mound seawalls, dunes, stone revetments, interior drainage features, pump stations; and nonstructural measures such as relocations, buyouts, and flood proofing of threatened properties.

FOR FURTHER INFORMATION CONTACT: Questions about the proposed action and the DEIS can be answered by Ms. Megan B. Grubb, (212) 264-5759, U.S. Army Engineer District, New York Planning Division, ATTN: CENAN-PL-EA, 26 Federal Plaza, New York, NY 10278-0090.

SUPPLEMENTARY INFORMATION: Project Location: This notice announces of the feasibility phase study for beach erosion control, storm damage reduction and related purposes along the north shore of Long Island at Bayville, NY. The study area extends from Long Island Sound on the north, Mill Neck Creek and Oyster Bay on the South, Centre Island on the east and the western boundary of the Village of Bayville on the west.

Project Authorization and History: The North Shore of Long Island, Village of Bayville, New York, Hurricane and Storm Damage Reduction Study was authorized by a resolution of the U.S. House of Representatives Committee on Public Works and Transportation, adopted May 13, 1993. In response to the study resolution and a State request following the devastating coastal storm of December 1992, the USACE performed a Reconnaissance Study and issued a Reconnaissance Report in September 1995 that demonstrated potential Federal interest and the need for a more detailed feasibility study.

Project Need: The Long Island northern shoreline has historically experienced coastal erosion and related storm damage, most recently from the two storms of September 1996 and October 1996, and also from previous storms including the Christmas Eve 1994 storm, the March 1993 Blizzard of the Century, the December 1992 northeaster, Hurricane Danielle of September 1992 and the Halloween Storm of 1991. These storms caused evacuations in several north shore communities as well as damage from flooding and loss of structures from erosion. The December 1992 storm alone inundated hundreds of residential and business properties and caused damages estimated at $12,000,000. Approximately 300 families were evacuated and several sections of Bayville Avenue were impassable for days. The loss of beachfront in some areas now leaves the site increasingly vulnerable to severe damages even from moderate storms.

DEIS Scope: The intended DEIS will evaluate the potential environmental and cultural impacts associated with the purposed hurricane and storm damage reduction alternatives for the Village of Bayville, NY.

Public Involvement: The USACE intends to schedule an interagency meeting and public scoping meeting in spring/summer 2002 to discuss the scope of the DEIS and data gaps. The public scoping meeting place, date, and time will be advertised in advanced in local newspapers, and meeting announcement letters will be sent to interested parties. A scoping document will be made available at least one month before scheduled public scoping meeting date at the following locations:

(1) Bayville Free Library, 34 School Street, Nayville, NY 11709.

(2) Oyster Bay-East Norwich Public Library, 89 E. Main St., Oyster Bay, NY 11771.

The public will have an opportunity to provide written and oral comments at the public scoping meeting. Written comments may also be submitted via mail and should be directed to Ms. Megan B. Grubb at the address listed above under FOR FURTHER INFORMATION CONTACT heading. The USACE plans to issue the DEIS in Spring 2003. The USACE will announce availability of the draft in the Federal Register and other media, and will provide the public, organization, and agencies with the opportunity to submit comments, which will be addressed in the Final Environmental Impact Statement.

Luz D. Ortiz,
Army Federal Register Liaison Officer.

[FR Doc. 02-1146 Filed 1-15-02; 8:45 am]

BILLING CODE 3710-06-M